DEPARTMENT OF ENERGY

Federal Energy Regulatory Commission

[Project No. 13434-000]

Klamath Irrigation District; Notice of Preliminary Permit Application Accepted for Filing and Soliciting Comments, Motions To Intervene, and Competing Applications

June 1, 2009.

On April 23, 2009, Klamath Irrigation District filed an application for a preliminary permit, pursuant to section 4(f) of the Federal Power Act, proposing to study the feasibility of the C Drop Hydroelectric Project (project), to be located at the existing diversion structure of the former Enterprise Hydroelectric Plant in Klamath County, Oregon. The diversion structure of the Enterprise Plant, which burned and was taken out of service approximately 25 years ago, is located approximately 8 miles below the origin of the A canal on Upper Klamath Lake, a tributary of the Klamath River. The proposed project would utilize some of the facilities of the former Enterprise Plant, and construct new facilities where needed. The sole purpose of a preliminary permit, if issued, is to grant the permit holder priority to file a license application during the permit term. A preliminary permit does not authorize the permit holder to perform any land disturbing activities or otherwise enter upon lands or waters owned by others without the owners' express permission.

The proposed project would consist of: (1) An existing 14-foot-wide intake structure/bridge on the C canal with upgrades to the rack and gate; (2) an existing forebay with modifications consisting of new gates, concrete floors, walls, support, and access platform to direct water flow to one of three places: (a) Through a 20-foot-wide turbine isolation roller gate into the powerhouse turbine and back into the C canal; (b) through a 10-foot-wide bypass roller gate; or (c) over any or all of the three 9-foot-wide automatic trip gates to the bypass; (3) an existing powerhouse with modifications including a new 20-foot-long, 30-foot-wide, 20-foot-high pre-manufactured metal building covering the powerhouse; (4) a vertical Kaplan turbine with a maximum hydraulic capacity of 550 cubic-foot-per-second; (5) a 900-kilowatt synchronous generator; (6) a 12.47-kilovolt, 150-foot-long transmission line; and (7) appurtenant facilities. The proposed C Drop project would have an average annual generation of 2,900 megawatt-hours.

Applicant Contact: Ted Sorenson, P.E., Sorenson Engineering, 5203 South 11th East, Idaho Falls, ID 83404; phone: (208) 522-8069.

FERC Contact: Gaylord Hoisington, (202) 502-6032.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13434) in the docket number field to access the document. For assistance, call toll-free 1-866-208-3372.

Kimberly D. Bose,
Secretary.

[FR Doc. E9-13238 Filed 6-5-09; 8:45 am]

BILLING CODE 6717-01-P